INTERNATIONAL TRADE COMMISSION

[Investigation Nos. 731-TA-865-867 (Fourth Review)]

Stainless Steel Butt-Weld Pipe Fittings From Italy, Malaysia, and the Philippines; Determinations

On the basis of the record ¹ developed in the subject five-year reviews, the United States International Trade Commission (“Commission”) determines, pursuant to the Tariff Act of 1930 (“the Act”), that revocation of the antidumping duty orders on stainless steel butt-weld pipe fittings from Italy, Malaysia, and the Philippines would be likely to lead to continuation or recurrence of material injury to an industry in the United States within a reasonably foreseeable time.

¹ The record is defined in § 207.2(f) of the Commission's Rules of Practice and Procedure (19 CFR 207.2(f)).

Background

The Commission instituted these reviews on November 1, 2022 (87 FR 65819) and determined on February 6, 2023 that it would conduct expedited reviews (88 FR 11954, February 24, 2023).

The Commission made these determinations pursuant to section 751(c) of the Act (19 U.S.C. 1675(c)). It completed and filed its determinations in these reviews on March 31, 2023. The views of the Commission are contained in USITC Publication 5415 (March 2023), entitled Stainless Steel Butt-Weld Pipe Fittings from Italy, Malaysia, and the Philippines: Investigation Nos. 731-TA-865-867 (Fourth Review).

By order of the Commission.
Issued: March 31, 2023.
Lisa Barton,
Secretary to the Commission.

[FR Doc. 2023-07163 Filed 4-5-23; 8:45 am]

BILLING CODE 7020-02-P